NATIONAL AERONAUTICS AND SPACE ADMINISTRATION

[Notice (07-090)]

Government-Owned Inventions, Available for Licensing

AGENCY: National Aeronautics and Space Administration.

ACTION: Notice of Availability of Inventions for Licensing.

SUMMARY: The inventions listed below assigned to the National Aeronautics and Space Administration, have been filed in the United States Patent and Trademark office, and are available for licensing.

DATES: December 7, 2007.

FOR FURTHER INFORMATION CONTACT: Edward K. Fein, Patent Counsel, Johnson Space Center, Mail Code AL, Houston, TX 77058-8452; telephone (281) 483-4871; fax (281) 483-6936.

NASA Case No. MSC-24115-1: Method and Apparatus for Fabric Circuits and Antennas;

NASA Case No. MSC-24273-1: Method for the Design and Analysis of the Primary Load Bearing Layer that Interfaces to the Structural Pass-through of an Inflatable Vessel;

NASA Case No. MSC-23563-1: Nanoencapsulated Aerogels Produced by Monomer Vapor Deposition and Polymerization.

Dated: November 30, 2007.
Keith T. Sefton,
Deputy General Counsel, Administration and Management.

[FR Doc. E7-23741 Filed 12-6-07; 8:45 am]

BILLING CODE 7510-13-P